DEPARTMENT OF ENERGY

Federal Energy Regulatory Commission

[Project No. 6299-014]

Notice of Application Accepted for Filing, Soliciting Comments, Motions To Intervene, Protests: Dakota and Goodhue Counties

Take notice that the following hydroelectric application has been filed with the Commission and is available for public inspection:

a. Application Type: Amendment of Exemption.

b. Project No.: P-6299-014.

c. Date Filed: October 31, 2018.

d. Applicant: Dakota County, Minnesota.

e. Name of Project: Lake Byllesby Hydroelectric Project.

f. Location of Project: The project is located on the Cannon River, in the City of Cannon Falls, Dakota County, Minnesota.

g. Filed Pursuant to: Federal Power Act, 16 U.S.C. 791a-825r.

h. Applicant Contact: Mr. Joshua Petersen, Senior Water Resources Engineer, Dakota County Environmental Resources Department, 14955 Galaxie Avenue, Apple Valley MN 55124, (952) 891-7140, Joshua.Petersen@co.dakota.mn.us.

i. FERC Contact: Ms. Alicia Burtner, (202) 502-8038, Alicia.Burtner@ferc.gov.

j. Deadline for filing comments, motions to interview, and protects: January 7, 2019. The Commission strongly encourages electronic filing. Please file motions to intervene, protests, comments, and recommendations, using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-6299-014.

k. Description of Request: The exemptee proposes to modify, repair, or replace several project features associated with a proposed upgrade to its turbine generator units. The work would primarily involve construction to the gate structures, intake pier, and buttressing; replacement of the project draft tubes, turbines, and other generation equipment; repair or restoration of several historic features of the project powerhouse; and restoration work in the downstream river channel. The replacement of the turbines and related generation equipment would increase the project's maximum intake design flow from 650 cubic feet per second (cfs) to 1,050 cfs, resulting in an increase in installed generating capacity from 1.9 megawatts (MW) to an estimated 4.0 MW.

l. This notice is available for review and reproduction at the Commission in the Public Reference Room, Room 2A, 888 First Street NE, Washington, DC 20426. The filing may also be viewed on the Commission's website at http://www.ferc.gov/docs-filing/elibrary.asp. Enter the Docket number (P-6299-014) excluding the last three digits in the docket number field to access the notice. You may also register online at http://www.ferc.gov/docs-filing/esubscription.asp to be notified via email of new filings and issuances related to this or other pending projects. For assistance, call toll-free 1-866-208-3676 or email FERCOnlineSupport@ferc.gov. For TTY, call (202) 502-8659.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filing must (1) bear in all capital letters the title COMMENTS, PROTEST, or MOTION TO INTERVENE as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, motions to intervene, or protests should relate to the request to upgrade the turbine generator units. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: December 7, 2018.
Nathaniel J. Davis, Sr.,
Deputy Secretary.

[FR Doc. 2018-26963 Filed 12-12-18; 8:45 am]

BILLING CODE 6717-01-P